DEPARTMENT OF TRANSPORTATION

Federal Aviation Administration

14 CFR Part 71

[Docket No. FAA-2008-0037; Airspace Docket No. 07-AWP-6]

Establishment of Low Altitude Area Navigation Routes (T-Routes); Sacramento and San Francisco, CA

AGENCY: Federal Aviation Administration (FAA), DOT.

ACTION: Final rule; delay of effective date.

SUMMARY: This action delays the effective date for the establishment of four low altitude Area Navigation (RNAV) T-routes, designated T-257, T-259, T-261 and T-263, in the Sacramento and San Francisco, CA, terminal areas until September 25, 2008. The FAA is taking this action to allow additional time for processing and charting.

DATES: Effective Date: The effective date of 0901 UTC, July 31, 2008, is delayed to 0901 UTC, September 25, 2008. The Director of the Federal Register approves this incorporation by reference action under 1 CFR part 51, subject to the annual revision of FAA Order 7400.9 and publication of conforming amendments.

FOR FURTHER INFORMATION CONTACT: Ken McElroy, Airspace and Rules Group, Office of System Operations Airspace and AIM, Federal Aviation Administration, 800 Independence Avenue, SW., Washington, DC 20591; telephone: (202) 267-8783.

SUPPLEMENTARY INFORMATION:

History

On May 30, 2008, the FAA published in the Federal Register a final rule establishing four low altitude T-routes in the San Francisco terminal area (73 FR 31021). This rule was originally scheduled to become effective July 31, 2008; however, a need for additional internal processing requires a delay in the effective date until September 25, 2008.

The Rule

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it establishes RNAV T-Routes at Sacramento and San Francisco, CA.

List of Subjects in 14 CFR Part 71

Airspace, Incorporation by reference, Navigation (air).

Delay of Effective Date

The effective date of the final rule, Docket FAA-2008-0037; Airspace Docket 07-AWP-6, as published in the Federal Register on May 30, 2008 (73 FR 31021), is hereby delayed until September 25, 2008.

Authority: 49 U.S.C. 106(g), 40103, 40113, 40120; E.O. 10854, 24 FR 9565, 3 CFR, 1959-1963 Comp., p. 389.

* * * * *

Issued in Washington, DC, on July 2, 2008.
Kenneth McElroy,
Acting Manager, Airspace and Rules Group.

[FR Doc. E8-15932 Filed 7-15-08; 8:45 am]

BILLING CODE 4910-13-P